SMALL BUSINESS ADMINISTRATION

[Disaster Declaration #20610 and #20611; SAINT REGIS MOHAWK TRIBE Disaster Number NY-20016]

Presidential Declaration Amendment of a Major Disaster for the Saint Regis Mohawk Tribe

AGENCY: U.S. Small Business Administration.

ACTION: Amendment 1.

SUMMARY: This is an amendment of the Presidential declaration of a major disaster for the Saint Regis Mohawk Tribe (FEMA-4818-DR), dated November 1, 2024.

Incident: Severe Storm and Flooding.

DATES: Issued on December 3, 2024.

Incident Period: August 8, 2024 through August 10, 2024.

Physical Loan Application Deadline Date: January 31, 2025.

Economic Injury (EIDL) Loan Application Deadline Date: August 1, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Saint Regis Mohawk Tribe, dated November 1, 2024, is hereby amended to extend the deadline for filing applications for physical damages as a result of this disaster to January 31, 2025.

All other information in the original declaration remains unchanged.

(Catalog of Federal Domestic Assistance Number 59008)

Alejandro Contreras,
Acting Deputy Associate Administrator, Office of Disaster Recovery & Resilience.

[FR Doc. 2024-28793 Filed 12-6-24; 8:45 am]

BILLING CODE 8026-09-P